DEPARTMENT OF COMMERCE

National Oceanic and Atmospheric Administration

50 CFR Part 648

[Docket No. 160516426-6426-01]

RIN 0648-XE632

Revisions to Framework Adjustment 55 to the Northeast Multispecies Fishery Management Plan and Sector Annual Catch Entitlements; Updated Annual Catch Limits for Sectors and the Common Pool for Fishing Year 2016

AGENCY: National Marine Fisheries Service (NMFS), National Oceanic and Atmospheric Administration (NOAA), Commerce.

ACTION: Final rule; adjustment to specifications.

SUMMARY: We, NMFS, are adjusting the 2016 fishing year sub-annual catch limits for commercial groundfish vessels, including sector allocations based on the final Northeast multispecies sector rosters submitted as of May 1, 2016. The revisions to 2016 catch limits are necessary to account for changes in the number of participants electing to fish in either sectors or the common pool fishery. These adjustments are routine and formulaic, and are required to match allocations to sector enrollment.

DATES: Effective September 2, 2016, through April 30, 2017.

FOR FURTHER INFORMATION CONTACT: Aja Szumylo, Fishery Policy Analyst, (978) 281-9195.

SUPPLEMENTARY INFORMATION: We recently approved Framework Adjustment 55, which set annual catch limits for groundfish stocks and three jointly managed U.S./Canada stocks for the 2016 fishing year. This action became effective on May 1, 2016 (81 FR 26412). Framework 55 included allocations for the 19 sectors approved to operate in 2016 based on enrollment as of March 15, 2016. A sector receives an allocation of each stock, or annual catch entitlement (referred to as ACE, or allocation), based on its members' catch histories. State-operated permit banks also receive an allocation that can be transferred to qualifying sector vessels. The sum of all sector and state-operated permit bank allocations is referred to as the sector sub-annual catch limit (sub-ACL). The groundfish allocations remaining after sectors and state-operated permit banks receive their allocations are then allocated to the common pool (i.e., vessels not enrolled in a sector), which is referred to as the common pool sub-ACL.

This rule adjusts the 2016 fishing year sector and common pool allocations based on final sector membership as of May 1, 2016. Permits enrolled in a sector and the vessels associated with those permits have until April 30, the last day prior to the beginning of a new fishing year, to withdraw from a sector and fish in the common pool. As a result, the actual sector enrollment for the new fishing year is unknown when the final specifications are published and sector enrollment from an earlier date is used until final enrollment is known. Consistent with regulatory requirements, each year we subsequently publish an adjustment rule modifying sector and common pool allocations based on final sector enrollment. The Framework 55 proposed and final rules both explained that sector enrollments may change and that there would be a need to adjust the sub-ACLs and sector ACEs accordingly.

Adjustments to sector ACEs and the sub-ACLs for sectors and the common pool are typically minimal as there has been little change in sector enrollment since 2010. Vessels currently enrolled in sectors have accounted for approximately 99 percent of the historical groundfish landings. This year's sector final rule specified sector ACEs based on the 837 permits enrolled in sectors on March 15, 2016. As of May 1, 2016, there were 841 Northeast multispecies permits enrolled in sectors, which means four additional permits elected to join sectors for the 2016 fishing year. Tables 1, 2, and 3 explain the revised 2016 fishing year allocations. Table 4 compares the allocation changes between the Framework 55 final rule and this adjustment rule.

This rulemaking also corrects transcription errors in the 2016-2018 Southern New England/Mid-Atlantic (SNE/MA) yellowtail flounder ACLs published in the Framework 55 final rule. Specifically, there were errors in the total groundfish fishery sub-ACL, the sector and common pool sub-ACLs, and the scallop fishery sub-ACL. Table 5 presents both the incorrect values presented in the Framework 55 final rule, as well as the corrected values. Although the values were listed incorrectly in the Framework 55 final rule, the total fishery ACLs for SNE/MA yellowtail flounder (255 mt) were listed correctly for all three years. In addition, the Environmental Assessment and supporting analysis for Framework 55 included the correct values. These adjustments are minor, and will not affect fishery operations.

BILLING CODE 3510-22-P

BILLING CODE 3510-22-C

Table 5—Corrected Fishing Year 2016-2016 SNE/MA Yellowtail Flounder Catch Limits (mt)
| 2016: Framework 55 final rule sub-ACL | 2016: Corrected sub-ACL | 2017: Framework 55 final rule sub-ACL | 2017: Corrected sub-ACL | 2018: Framework 55 final rule sub-ACL | 2018: Corrected sub-ACL
Total groundfish fishery | 182 | 189 | 187 | 187 | 179 | 186
Sector | 145 | 150 | 145 | 149 | 142 | 148
Common Pool | 37 | 39 | 37 | 39 | 37 | 38
Scallop Fishery | 39 | 32 | 39 | 34 | 38 | 37

We have completed 2015 fishing year data reconciliation with sectors and determined final 2015 fishing year sector catch and the amount of allocation that sectors may carry over from the 2015 to the 2016 fishing year. With the exception of Georges Bank yellowtail flounder, a sector may carry over up to 10 percent of unused ACE for each stock from the end of 2015 to 2016. Table 6 includes the maximum amount of allocation that sectors may carry over from the 2015 to the 2016 fishing year. Because the amount of unused ACE combined with the overall sector sub-ACL may not exceed the acceptable biological catch (ABC) for each stock, the unused ACE is adjusted down when necessary to ensure the combined carryover of unused ACE and the sector sub-ACL do not exceed each stock's ABC.

Table 7 includes the de minimis amount of carryover for each sector for the 2016 fishing year. If the overall ACL for any allocated stock is exceeded for the 2016 fishing year, the allowed carryover harvested by a sector, minus the pounds the sector's de minimis amount, will be counted against its allocation to determine whether an overage subject to an accountability measure occurred. Tables 8 and 9 list the final ACE available to sectors for the 2016 fishing year, including finalized carryover amounts for each sector, as adjusted down when necessary to equal each stocks ABC.

BILLING CODE 3510-22-P

Common pool enrollment also changed after March 15, 2016, and also requires adjustments to applicable catch limits. The common pool sub-ACL for each stock (except for SNE/MA winter flounder, windowpane flounder, ocean pout, Atlantic wolffish, and Atlantic halibut) is divided into trimester total allowable catches (Trimester TACs). In addition, Framework 55 specified incidental catch limits (or incidental total allowable catches, “Incidental TACs”) applicable to the common pool and groundfish Special Management Programs for the 2016 fishing year, including the B day-at-sea (DAS) Program. Because the Trimester and incidental TACs are based on the common-pool allocation, they also must be revised to match current common pool enrollment allocation. Final common pool trimester quotas and incidental catch limits are included in Tables 10-14 below.

BILLING CODE 3510-22-C

Table 11—Fishing Year 2016 Common Pool Incidental Catch TACs
Stock | Percentage of common pool sub-ACL | Incidental catch TAC (mt)
GB cod | 2 | 0.229
GOM cod | 1 | 0.09
GB yellowtail flounder | 2 | 0.062
CC/GOM yellowtail flounder | 1 | 0.14
American Plaice | 5 | 1.00
Witch Flounder | 5 | 0.39
SNE/MA winter flounder | 1 | 0.62

Table 12—Distribution of Common Pool Incidental Catch TACs to Each Special Management Program
Stock | Regular B DAS program (%) | Closed area I hook gear Haddock SAP (%) | Eastern U.S./CA Haddock SAP (%) | Southern closed area II Haddock SAP (%)
GB cod | 50 | 16 | 34 | NA.
GOM cod | 100 | NA | NA | NA.
GB yellowtail flounder | 50 | NA | 50 | NA.
CC/GOM yellowtail flounder | 100 | NA | NA | NA.
American Plaice | 100 | NA | NA | NA.
Witch Flounder | 100 | NA | NA | NA.
SNE/MA winter flounder | 100 | NA | NA | NA.

Table 13—Fishing Year 2016 Common Pool Incidental Catch TACs for Each Special Management Program (mt)
Stock | Regular B DAS program | Closed area I hook gear Haddock SAP | Eastern U.S./Canada Haddock SAP
GB cod | 0.11 | 0.04 | 0.08.
GOM cod | 0.09 | NA | NA.
GB yellowtail flounder | 0.03 | NA | 0.04.
CC/GOM yellowtail flounder | 0.14 | NA | NA.
American Plaice | 1.00 | NA | NA.
Witch Flounder | 0.39 | NA | NA.
SNE/MA winter flounder | 0.62 | NA | NA.

Table 14—Fishing Year 2016 Common Pool Regular B DAS Program Quarterly Incidental Catch TACs (mt)
Stock | 1st quarter (13%) | 2nd quarter (29%) | 3rd quarter (29%) | 4th quarter (29%)
GB cod | 0.01 | 0.03 | 0.03 | 0.03
GOM cod | 0.01 | 0.03 | 0.03 | 0.03
GB yellowtail flounder | 0.004 | 0.009 | 0.009 | 0.009
CC/GOM yellowtail flounder | 0.02 | 0.04 | 0.04 | 0.04
American Plaice | 0.13 | 0.29 | 0.29 | 0.29
Witch Flounder | 0.05 | 0.11 | 0.11 | 0.11
SNE/MA winter flounder | 0.08 | 0.18 | 0.18 | 0.18

Classification

The NMFS Assistant Administrator has determined that this final rule is consistent with the FMP, other provisions of the Magnuson-Stevens Act, and other applicable law.

This action is exempt from the procedures of E.O. 12866 because this action contains no implementing regulations.

Pursuant to 5 U.S.C. 553(b)(3)(B), we find good cause to waive prior public notice and opportunity for public comment on the catch limit and allocation adjustments because allowing time for notice and comment is impracticable, unnecessary, and contrary to the public interest. We also find good cause to waive the 30-day delay in effectiveness pursuant to 5 U.S.C. 553(d)(3), so that this final rule may become effective upon filing.

There are several reasons that notice and comment are impracticable, unnecessary, and contrary to the public interest. First, the proposed and final rules for Framework 55 explained the need and likelihood for adjustments of sector and common pool allocations based on final sector rosters. These adjustments are routine and formulaic, required by regulation, and necessary to match allocations to sector enrollment. No comments were received on the potential for these adjustments, which provide an accurate accounting of a sector's or common pool's allocation. Furthermore, we have followed a similar process since Amendment 16 was implemented in 2010; this annual adjustment action is anticipated by industry. Second, these adjustments are based on either objective sector enrollment data or a pre-determined accountability measure and are not subject to NMFS' discretion, so there would be no benefit to allowing time for prior notice and comment. Data regarding final sector enrollment only became available after rosters were finalized in May 2016. In addition, reconciliation of final 2015 fishing year sector catch was completed in August 2016. This information allows us to determine the amount of allocation that sectors may carry over from the 2015 to the 2016 fishing year, and it was not practicable to finalize this information sooner. If this rule is not effective immediately, the sector and common pool vessels will be operating under incorrect information on the catch limits for each stock for sectors and the common pool. This could cause confusion and negative economic impacts to the both sectors and the common pool, depending on the size of the allocation, the degree of change in the allocation, and the catch rate of a particular stock.

The catch limit and allocation adjustments are not controversial and the need for them was clearly explained in the proposed and final rules for Framework 55. Adjustments for overages are also explained in detail in the Amendment 16 proposed and final rules. As a result, Northeast multispecies permit holders are expecting these adjustments and awaiting their implementation. Fishermen may make both short- and long-term business decisions based on the catch limits in a given sector or the common pool. Any delays in adjusting these limits may cause the affected fishing entities to slow down, or speed up, their fishing activities during the interim period before this rule becomes effective. Both of these reactions could negatively affect the fishery and the businesses and communities that depend on them. Therefore, it is important to implement adjusted catch limits and allocations as soon as possible. For these reasons, we are waiving the public comment period and delay in effectiveness for this rule, pursuant to 5 U.S.C. 553(b)(3)(B) and (d), respectively.

Also, because advanced notice and the opportunity for public comment are not required for this action under the Administrative Procedure Act, or any other law, the analytical requirements of the Regulatory Flexibility Act, 5 U.S.C. 601, et seq., do not apply to this rule. Therefore, no new final regulatory flexibility analysis is required and none has been prepared.

Authority: 16 U.S.C. 1801 et seq.

Dated: August 29, 2016.
Samuel D. Rauch III,
Deputy Assistant Administrator for Regulatory Programs, National Marine Fisheries Service.

[FR Doc. 2016-21154 Filed 9-1-16; 8:45 am]

BILLING CODE 3510-22-P